DEPARTMENT OF COMMERCE

National Oceanic and Atmospheric Administration

RIN 0648-XC762

Takes of Marine Mammals Incidental to Specified Activities; Taking Marine Mammals Incidental to a Wharf Recapitalization Project

AGENCY: National Marine Fisheries Service (NMFS), National Oceanic and Atmospheric Administration (NOAA), Commerce.

ACTION: Notice; revision of an incidental harassment authorization.

SUMMARY: Notice is hereby given that we have revised an incidental harassment authorization (IHA) issued to the U.S. Navy (Navy) to incidentally harass, by Level B harassment only, two species of marine mammals during construction activities associated with a wharf recapitalization project at Naval Station Mayport, Florida. The project has been delayed and the effective dates revised accordingly.

DATES: This authorization is now effective from September 1, 2014, through August 31, 2015.

FOR FURTHER INFORMATION CONTACT: Ben Laws, Office of Protected Resources, NMFS, (301) 427-8401.

SUPPLEMENTARY INFORMATION:

Background

On April 4, 2013, we received a request from the Navy for authorization of the taking, by Level B harassment only, of marine mammals incidental to pile driving in association with the Wharf C-2 recapitalization project at Naval Station Mayport, Florida (NSM). That request was modified on May 9 and June 5, 2013, and a final version, which we deemed adequate and complete, was submitted on August 7, 2013. We published notice of a proposed IHA and request for comments on August 22, 2013 (78 FR 52148), and subsequently published final notice of our issuance of the IHA on November 29, 2013 (78 FR 71566). In-water work associated with the project was expected to be completed within the one-year timeframe of the IHA (effective dates originally December 1, 2013 through November 30, 2014). Two species of marine mammal are expected to be affected by the specified activities: Bottlenose dolphin (Tursiops truncatus truncatus) and Atlantic spotted dolphin (Stenella frontalis). These species may occur year-round in the action area.

Summary of the Activity

Wharf C-2 is a single level, general purpose berthing wharf constructed in 1960. The wharf is one of NSM's two primary deep-draft berths and is one of the primary ordnance handling wharfs. The wharf is a diaphragm steel sheet pile cell structure with a concrete apron, partial concrete encasement of the piling and an asphalt paved deck. The wharf is currently in poor condition due to advanced deterioration of the steel sheeting and lack of corrosion protection, and this structural deterioration has resulted in the institution of load restrictions within 60 ft of the wharf face. The purpose of this project is to complete necessary repairs to Wharf C-2.

Effects to marine mammals from the specified activity are expected to result from underwater sound produced by vibratory and impact pile driving. In order to assess project impacts, the Navy used thresholds recommended by NMFS. The Navy assumed practical spreading loss and used empirically-measured source levels from representative pile driving events to estimate potential marine mammal exposures. The calculations predict that only Level B harassment would occur associated with pile driving activities, and required mitigation measures further ensure that no more than Level B harassment would occur.

Findings

Marine Mammal Protection Act (MMPA)—As required by the MMPA in order to issue an IHA, we determined that (1) the required mitigation measures are sufficient to reduce the effects of the specified activities to the level of least practicable impact; (2) the authorized takes will have a negligible impact on the affected marine mammal species; (3) the authorized takes represent small numbers relative to the affected stock abundances; and (4) the Navy's activities will not have an unmitigable adverse impact on taking for subsistence purposes as no relevant subsistence uses of marine mammals are implicated by this action.

National Environmental Policy Act (NEPA)—The Navy prepared an Environmental Assessment analyzing the project. We reviewed the EA and the public comments received and determined that it was appropriate to adopt the document in order to assess the impacts to the human environment of issuance of an IHA to the Navy. We signed a Finding of No Significant Impact on November 20, 2013.

Endangered Species Act (ESA)—There are no ESA-listed marine mammals expected to occur in the action area. Therefore, the Navy did not request authorization of the incidental take of ESA-listed species and no such authorization was issued; therefore, no consultation under the ESA was required.

Summary of the Revision

Construction activities have been delayed for the project due to difficulties in obtaining the necessary construction materials. No in-water work has occurred, including all aspects of the specified activity considered in our issuance of the IHA. The IHA, as issued, is a one-year IHA with no consideration of seasonality in timing any component of the specified activity. Therefore, shifting the effective dates of the IHA to accommodate the Navy's delayed schedule for this project has no effect on our analysis of project impacts and does not affect our findings. No new information is available that would substantively affect our analyses under the MMPA, NEPA, or ESA. All mitigation, monitoring, and reporting measures described in our notice of issuance of the IHA remain in effect. The species for which take was authorized and the numbers of incidences of take authorized are unchanged.

As a result of the foregoing, we have revised the IHA issued to the Navy to conduct the specified activities in Naval Station Mayport, FL. Originally valid for one year, from December 1, 2013, through November 30, 2014, the IHA now becomes effective on September 1, 2014, and is valid for one year, until August 31, 2015.

Dated: May 7, 2014.
Donna S. Wieting,
Director, Office of Protected Resources, National Marine Fisheries Service.

[FR Doc. 2014-11114 Filed 5-14-14; 8:45 am]

BILLING CODE 3510-22-P